DEPARTMENT OF LABOR

Employment and Training Administration

[TA-W-64,651]

Johnson Controls, Inc. Rockwood, MI; Notice of Termination of Investigation

Pursuant to Section 221 of the Trade Act of 1974, as amended, an investigation was initiated on December 11, 2008 in response to a worker petition filed by the United Auto Workers Local 3000 on behalf of workers at Johnson Controls, Inc., Rockwood, Michigan.

The petitioner has requested that the petition be withdrawn. Consequently, the investigation has been terminated.

Signed at Washington, DC, this 2nd day of April 2009.
Richard Church,
Certifying Officer, Division of Trade Adjustment Assistance.

[FR Doc. E9-10364 Filed 5-5-09; 8:45 am]

BILLING CODE 4510-FN-P